DEPARTMENT OF ENERGY

Federal Energy Regulatory Commission

[Docket Nos. ER22-2310-000, ER22-2310-001]

PacifiCorp; Notice of Motion for Extension of Time To Comply

On May 2, 2025, PacifiCorp filed a motion for extension of time to comply with implementing the requirements of Order No. 881 and Order No. 881-A ¹ and the Commission's May 18, 2023 order,² from July 12, 2025, to October 15, 2027. Specifically, PacifiCorp requests an extension of time (1) to test critical vendor programs necessary for PacifiCorp's Order No. 881 compliance on its own system and to align PacifiCorp's compliance with the Order No. 881 integration timelines proposed by California Independent System Operator Corporation (CAISO) for the Western Energy Imbalance Market; (2) to mitigate potential reliability, operational, and market concerns with starting new and minimally tested line ratings during the 2025 and 2026 peak summer loading periods and without full market integration by CAISO; and (3) to ensure there is appropriate time to train PacifiCorp staff on the newly implemented programs, and to comply with the documentation requirements of Order No. 881.

¹ Managing Transmission Line Ratings, Order No. 881, 177 FERC ¶ 61,179 (2021), order addressing arguments raised on reh'g, Order No. 881-A, 179 FERC ¶ 61,125 (2022).

² PacifiCorp, 183 FERC ¶ 61,101 (2023).

Answers to the motion must be filed by 5:00 p.m. Eastern Time on June 17, 2025.

Dated: May 27, 2025.
Carlos D. Clay,
Deputy Secretary.

[FR Doc. 2025-09923 Filed 5-30-25; 8:45 am]

BILLING CODE 6717-01-P